DEPARTMENT OF JUSTICE

[OMB Number 1190-0008]

Agency Information Collection Activities; Proposed eCollection eComments Requested; Complaint Form, Federal Coordination and Compliance Section

AGENCY: Civil Rights Division, Department of Justice.

ACTION: 30-Day notice.

SUMMARY: The Civil Rights Division, Department of Justice (DOJ), will be submitting the following information collection request to the Office of Management and Budget (OMB) for review and approval in accordance with the Paperwork Reduction Act of 1995. The proposed information collection was previously published in the Federal Register on May 19, 2023, allowing a 60-day comment period.

DATES: Comments are encouraged and will be accepted for 30 days until August 24, 2023.

FOR FURTHER INFORMATION CONTACT: If you have comments especially on the estimated public burden or associated response time, suggestions, or need a copy of the proposed information collection instrument with instructions or additional information, please contact: Christine Stoneman, Section Chief, Federal Coordination and Compliance Section, 950 Pennsylvania Avenue NW-4CON, Washington, DC 20002, phone: 202-307-2222, email: christine.stoneman@usdoj.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1190-0008. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a previously approved collection.

2. Title of the Form/Collection: Complaint Form, Federal Coordination and Compliance Section.

3. Agency form number, if any, and the applicable component of the Department of Justice sponsoring the collection: FCS Complaint and Consent Form. The sponsoring business component is the Civil Rights Division, DOJ.

4. Affected public who will be asked or required to respond, as well as a brief abstract:

Affected Public: Individuals or households.

Abstract: Authorized by Title VI of the Civil Rights Act, 1964, 42 U.S.C. 2000d and the Antidiscrimination provision of the Omnibus Crime Control and Safe Streets Act, 28 U.S.C. 42.101, this collection of information is used to find jurisdiction to investigate the alleged discrimination, to seek whether a referral to another agency is necessary, and to provide information needed to initiate investigation of the complaint.

5.Obligation to Respond: Voluntary.

6. Total Estimated Number of Respondents: 4,000.

7. Estimated Time per Respondent: 30 minutes.

8. Frequency: Once a year/annually.

9. Total Estimated Annual Time Burden: 2,000 hours.

10. Total Estimated Annual Other Costs Burden: $0.

If additional information is required, contact: Darwin Arceo, Department Clearance Officer, Policy and Planning Staff, Justice Management Division, United States Department of Justice, Two Constitution Square, 145 N Street NE, 4W-218, Washington, DC 20530.

Dated: July 19, 2023.
Darwin Arceo,
Department Clearance Officer for PRA, U.S. Department of Justice.

[FR Doc. 2023-15736 Filed 7-24-23; 8:45 am]

BILLING CODE 4410-13-P